DEPARTMENT OF ENERGY

Federal Energy Regulatory Commission

[Docket No. CP22-501-000]

Transcontinental Gas Pipe Line Company, LLC; Notice of Waiver Period for Water Quality Certification Application

On August 22, 2022, Transcontinental Gas Pipe Line Company, LLC submitted to the Federal Energy Regulatory Commission a copy of its application for a Clean Water Act section 401(a)(1) water quality certification filed with the Alabama Department of Environmental Management (ADEM), in conjunction with the above captioned project. Pursuant to 40 CFR 121.6 and section 157.22(b) of the Commission's regulations,¹ we hereby notify ADEM of the following:

¹ 18 CFR 157.22(b) (2022).

Date of Receipt of the Certification Request: August 22, 2022.

Reasonable Period of Time to Act on the Certification Request: August 22, 2023.

If ADEM fails or refuses to act on the water quality certification request on or before the above date, then the agency certifying authority is deemed waived pursuant to section 401(a)(1) of the Clean Water Act, 33 U.S.C. 1341(a)(1).

Dated: March 28, 2023.
Kimberly D. Bose,
Secretary.

[FR Doc. 2023-06858 Filed 4-3-23; 8:45 am]

BILLING CODE 6717-01-P